DEPARTMENT OF TRANSPORTATION

Office of the Secretary

Reports, Forms and Recordkeeping Requirements; Agency Information Collection Activity Under OMB Review

AGENCY: Department of Transportation, (DOT).

ACTION: Notice.

SUMMARY: In accordance with the Paperwork Reduction Act of 1995 (44 U.S.C. Chapter 35, as amended) this notice announces the Department of Transportation's (DOT) intention to request an extension of a currently approved information collection for alcohol testing.

Before submitting this information collection to OMB for renewal, DOT is soliciting comments on whether the proposed collection of information is necessary for the proper performance of the functions of the Department, including whether the information will have practical utility; the accuracy of the Department's estimate of the burden of the proposed information collection; ways to enhance the quality, utility and clarity of the information to be collected; and ways to minimize the burden of collection of information on respondents, including the use of automated collection techniques or other forms of information technology.

DATES: Comments on this notice must be received on or before April 28, 2000.

ADDRESSES: Comments should be sent to Docket Clerk, Attn: Docket No. OST-99-6578, Department of Transportation, 400 7th Street, SW, Room PL401, Washington DC 20590. Commenters may also submit their comments electronically. Instructions for electronic submission may be found at the following web address: http://dms.dot.gov/submit/. The public may also review docketed comments electronically.

FOR FURTHER INFORMATION CONTACT: Mr. Kenneth C. Edgell, DOT Office of Drug and Alcohol Policy and Compliance, Office of the Secretary, S-1, ODAPC, Room 10403, Department of Transportation, at the address above. Telephone: (202) 366-3784.

SUPPLEMENTARY INFORMATION:

Office of the Secretary, Drug Program Office

Title: U.S. Department of Transportation (DOT) Breath Alcohol Testing Form.

OMB Control Number: 2105-0529.

Form Number: 2105-0529.

Type of Request: Extension of a currently approved collection.

Affected Entities: Transportation industries.

Abstract: Under the Omnibus Transportation Employee Testing Act of 1991, DOT is required to implement an alcohol testing program in various transportation industries. This specific requirement is elaborated in 49 CFR Part 40, Procedures for Transportation Workplace Drug and Alcohol Testing Programs.

Breath-alcohol technicians (BAT) must fill out testing form. The form includes the employee's name, the type of test taken, the date of the test, and the name of the employer.

Custody and control is essential to the basic purpose of the alcohol testing program. Data on each test conducted, including test results, are necessary to document tests conducted and actions taken to ensure safety in the workplace.

Estimated Total Burden on Respondents: The estimated annual burden hour is 1. Since this package is simply requesting clearance to use the alcohol testing form, the Office of the Secretary has no actual burden.

Issued in Washington DC.
K.C. Edgell,
Acting Director, Office of Drug and Alcohol Policy and Compliance, United States Department of Transportation.

[FR Doc. 00-4640 Filed 2-25-00; 8:45 am]

BILLING CODE 4910-62-P